DEPARTMENT OF AGRICULTURE

Farm Production and Conservation Business Center

[Docket ID: FPAC-2024-0002]

Information Collection Request; Request for Geospatial Products and Services

AGENCY: Farm Production and Conservation Business Center, USDA.

ACTION: Notice; request for comments.

SUMMARY: In accordance with the Paperwork Reduction Act requirement, the Farm Production and Conservation (FPAC) Business Center (BC) is requesting comments from all interested individuals and organizations on a revision and an extension of a currently approved information collection associated with Request for Geospatial Products and Service under the FPAC Geospatial Enterprise Operations (GEO) Program (formerly FSA Aerial Photography Program). GEO uses the information from the forms to collect the customer and product information needed to produce and ship the various geospatial and photographic products ordered.

DATES: We will consider comments that we receive by December 31, 2024.

ADDRESSES: We invite you to submit comments on this notice. You may submit comments to this following method: Federal eRulemaking Portal: Go to http://www.regulations.gov www.regulations.gov and search for Docket ID FPAC-2024-0002. Follow the online instructions for submitting comments.

You may also send comments to the Desk Officer for Agriculture, Office of Information and Regulatory Affairs, Office of Management and Budget, Washington, DC 20503. Copies of the information collection may be requested by contacting David Parry below.

FOR FURTHER INFORMATION CONTACT: David Parry, (801) 844-2923; email: david.parry@usda.gov. Individuals who require alternative means of communication for program information should contact the USDA Target Center at (202) 720-2600 (voice) or dial 711 for Telecommunications Relay Service (both voice and text telephone users can initiate this call from any telephone).

SUPPLEMENTARY INFORMATION:

Title: Request for Geospatial Products and Services.

OMB Control Number: 0560-0176.

Expiration Date: January 31, 2025.

Type of Request: Extension with a revision.

Abstract: The information collection is needed to enable the Department of Agriculture to effectively administrate the Geospatial and Aerial Photography Programs. GEO has the responsibility for acquiring and conducting coordination of the FPAC's geospatial datasets and the aerial photography flying contracts and remote sensing programs. The geospatial data and digital aerial imagery secured by FPAC BC is public domain and reproductions are available at cost to any customer with a need. All receipts from the sale of geospatial products and services are retained by FPAC BC. This collection will get an FPAC OMB control number. The FPAC-ISD-441, Request for Geospatial Products and Services, is the form FPAC supplies to the customers for placing an order for aerial imagery products and services. The burden hours have decreased because FPAC-ISD-441B Request for Custom Aerial Print and FPAC-ISD441D One Time Credit Card Payment Authorization forms are now obsolete.

For the following estimated total annual burden on respondents, the formula used to calculate the total burden hour is the estimated average time per responses hours multiplied by the estimated total annual responses. The information collection request will get new FPAC OMB control number.

Estimate of Burden: Public reporting burden for the information collection is estimated to average 16 minutes per response.

Type of Respondents: Farmers, Ranchers, and other customers who wish to purchase imagery products and services.

Estimated Number of Respondents: 1,425.

Estimated Annual Number of Responses per Respondent: 1.

Estimated Total Annual Responses. 1,425.

Estimated Average Time per Response: 0.303.

Estimated Total Annual Burden Hours on Respondents: 432 hours.

We are requesting comments on all aspects of this information collection to help us to:

(1) Evaluate whether the collection of information is necessary for the proper performance of the functions of FPAC, including whether the information will have practical utility;

(2) Evaluate the accuracy of FPAC's estimate of the burden of the collection of information including the validity of the methodology and assumptions used;

(3) Evaluate the quality, utility, and clarity of the information technology; and

(4) Minimize the burden of the collection of information on those who are respond, including through the use of appropriate automated, electronic, mechanical, or other technological collection techniques or other forms of information technology.

All comments received in response to this notice, including names and addresses where provided, will be made a matter of public record. Comments will be summarized and included in the request for OMB approval of the information collection.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Robert Ibarra,
Chief Operating Officer, USDA Farm Production and Conservation Business Center.

[FR Doc. 2024-25279 Filed 10-31-24; 8:45 am]

BILLING CODE 3411-E2-P